ENVIRONMENTAL PROTECTION AGENCY

[EPA-HQ-OPP-2017-0750; FRL-12314-01-OCSPP]

Pesticide Registration Review; Proposed Decisions for Several Pesticides; Notice of Availability

AGENCY: Environmental Protection Agency (EPA).

ACTION: Notice.

SUMMARY: This notice announces the availability of EPA's amended proposed interim decisions (PID) for folpet and sedaxane. This notice also announces the availability of EPA's proposed final registration review decision (PFD) for d-allethrin. EPA is opening a 60-day public comment period for these proposed registration review decisions.

DATES: Comments must be received on or before January 6, 2025.

ADDRESSES: Submit your comments, identified by the docket identification (ID) number for the specific pesticide of interest provided in table 1 of unit I, by one of the following methods:

• Federal eRulemaking Portal: https://www.regulations.gov. Follow the online instructions for submitting comments. Do not submit electronically any information you consider to be Confidential Business Information (CBI) or other information whose disclosure is restricted by statute.

• Mail: https://www.epa.gov/dockets/where-send-comments-epa-dockets. OPP Docket, Environmental Protection Agency Docket Center (EPA/DC), (28221T), 1200 Pennsylvania Ave. NW, Washington, DC 20460-0001.

FOR FURTHER INFORMATION CONTACT:

For pesticide specific information, contact: The Chemical Review Manager for the pesticide of interest identified in table 1 of unit I.

For general information on the registration review program, contact: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. Purpose of This Notice

Pursuant to 40 CFR 155.58(a), this notice announces the availability of EPA's proposed interim and proposed final registration review decisions for the pesticides shown in table 1 and opens a 60-day public comment period on the proposed interim and proposed final registration review decisions.

Table 1—Proposed Interim and Proposed Final Registration Review Decisions
Registration review case name and number | Docket ID No. | Chemical review manager and contact information
d-Allethrin Case Number 0437 | EPA-HQ-OPP-2010-0022 | Carolyn Smith, smith.carolyn@epa.gov, (202) 566-2273.
Folpet Case Number 0630 | EPA-HQ-OPP-2012-0859 | Samantha Carter, carter.samantha@epa.gov, (202) 566-1179. Erin Dandridge, dandridge.erin@epa.gov, (202) 566-0635.
Sedaxane Case Number 7065 | EPA-HQ-OPP-2022-0448 | Samantha Carter, carter.samantha@epa.gov, (202) 566-1179.

II. Background

EPA is conducting its registration review of the chemicals listed in the table 1 of unit I pursuant to the Federal Insecticide, Fungicide, and Rodenticide Act (FIFRA) section 3(g) (7 U.S.C. 136a(g)) and the Procedural Regulations for Registration Review at 40 CFR part 155, subpart C. FIFRA Section 3(g) provides, among other things, that pesticide registrations are to be reviewed every 15 years. Consistent with 40 CFR 155.57, in its final registration review decision, EPA will ultimately determine whether a pesticide continues to meet the registration standard in FIFRA section 3(c)(5) (7 U.S.C. 136a(c)(5)). As part of the registration review process, the Agency has completed a proposed interim or proposed decision for each of the pesticides listed in table 1 of unit I.

The registration review docket for a pesticide includes documents related to the registration review case. Among other things, these documents describe EPA's rationales for conducting additional risk assessments for the registration review of the pesticides included in table 1 of unit I, as well as the Agency's subsequent risk findings and consideration of possible risk mitigation measures. The proposed interim and proposed registration review decisions are supported by the rationales included in those documents.

Consistent with 40 CFR 155.58(a), EPA provides for at least a 60-day public comment period on proposed interim and proposed registration review decisions. This comment period is intended to provide an opportunity for public input and a mechanism for initiating any necessary amendments to the proposed decision.

For additional background on the registration review program, see: https://www.epa.gov/pesticide-reevaluation.

III. What action is the Agency taking?

This notice is directed to the public in general and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the Chemical Review Manager for the pesticide of interest identified in table 1 of unit I. In submitting a comment to EPA, please consider the following:

1. Submitting CBI. Do not submit this information to EPA through regulations.gov or email. Clearly mark the part or all the information that you claim to be CBI. For CBI information on a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at: https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

All comments should be submitted using the methods in ADDRESSES and must be received by EPA on or before the closing date. These comments will become part of the docket for the pesticides included in table 1 in unit I. The Agency will consider all comments received by the closing date and may respond to comments in a “Response to Comments Memorandum” in the docket and/or in any subsequent interim or final registration review decision, as appropriate.

Authority: 7 U.S.C. 136 et seq.

Dated: October 22, 2024.
Jean Anne Overstreet,
Director, Pesticide Re-Evaluation Division, Office of Pesticide Programs.

[FR Doc. 2024-25618 Filed 11-4-24; 8:45 am]

BILLING CODE 6560-50-P